DEPARTMENT OF THE TREASURY

Office of the Comptroller of the Currency

Agency Information Collection Activities: Information Collection Renewal; Submission for OMB Review; Disclosure of Financial and Other Information by National Banks

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995 (PRA).

In accordance with the requirements of the PRA, the OCC may not conduct or sponsor, and the respondent is not required to respond to, an information collection unless it displays a currently valid Office of Management and Budget (OMB) control number.

The OCC is soliciting comment concerning renewal of its information collection titled, “Disclosure of Financial and Other Information by National Banks.” The OCC also is giving notice that it has sent the collection to OMB for review.

DATES: Comments must be submitted on or before June 27, 2016.

ADDRESSES: Because paper mail in the Washington, DC area and at the OCC is subject to delay, commenters are encouraged to submit comments by email, if possible. Comments may be sent to: Legislative and Regulatory Activities Division, Office of the Comptroller of the Currency, Attention: 1557-0182, 400 7th Street SW., Suite 3E-218, Mail Stop 9W-11, Washington, DC 20219. In addition, comments may be sent by fax to (571) 465-4326 or by electronic mail to prainfo@occ.treas.gov. You may personally inspect and photocopy comments at the OCC, 400 7th Street SW., Washington, DC 20219. For security reasons, the OCC requires that visitors make an appointment to inspect comments. You may do so by calling (202) 649-6700 or, for persons who are deaf or hard of hearing, TTY, (202) 649-5597. Upon arrival, visitors will be required to present valid government-issued photo identification and submit to security screening in order to inspect and photocopy comments.

All comments received, including attachments and other supporting materials, are part of the public record and subject to public disclosure. Do not include any information in your comment or supporting materials that you consider confidential or inappropriate for public disclosure.

Additionally, please send a copy of your comments by mail to: OCC Desk Officer, 1557-0182, U.S. Office of Management and Budget, 725 17th Street NW., #10235, Washington, DC 20503, or by email to: oira submission@omb.eop.gov.

FOR FURTHER INFORMATION CONTACT: Shaquita Merritt, OCC Clearance Officer, (202) 649-5490 or, for persons who are deaf or hard of hearing, TTY, (202) 649-5597, Legislative and Regulatory Activities Division, Office of the Comptroller of the Currency, 400 7th Street SW., Suite 3E-218, Mail Stop 9W-11, Washington, DC 20219.

SUPPLEMENTARY INFORMATION: The OCC requests that OMB extend its approval of the following collection:

Title: Disclosure of Financial and Other Information by National Banks.

OMB Control No.: 1557-0182.

Type of Review: Extension, without revision, of a currently approved collection.

Description: The collections of information are found in 12 CFR 18.3, 18.4, and 18.8. Section 18.3 requires the preparation of an annual disclosure statement and specifies when a national bank must make the statement available to shareholders. Section 18.4 outlines what information the disclosure statement must contain and provides that a national bank may, at its option, supplement its annual disclosure statement with a narrative discussion. Lastly, § 18.8 requires that a national bank promptly mail or otherwise furnish its annual disclosure statement upon request.

The information collected under part 18 is also collected through the Consolidated Reports of Condition and Income. Therefore, the OCC has proposed to remove part 18 in its entirety, 81 FR 13607 (March 14, 2016). Following issuance of a final rule removing part 18, the OCC will discontinue this information collection.

Affected Public: Businesses or other for-profit.

Burden Estimates:

Estimated Number of Respondents: 1,100.

Estimated Total Annual Burden: 555 hours.

Frequency of Response: On occasion.

Comments: On February 25, 2016, the OCC issued a notice for 60 days of comment concerning the collection, 81 FR 9584. The OCC received one comment from an individual.

The commenter questioned the utility and benefit of the information collection compared to the burden because the rule requires information that is already available through OCC's program of periodic and financial disclosure and other sources. The commenter suggested that the rule should be replaced with easy to understand measures or statistics or rewritten to minimize the burden and enhance the quality and clarity of the information collected. The information collected is available through the Consolidated Reports of Condition of Income and, as indicated above, this information collection will be discontinued following the issuance of a final rule removing part 18.

The commenter stated that the OCC improves the quality, utility, and clarity of information when it attentively responds to all significant public comments before finalizing rules. The commenter also believes that when the OCC leaves unclear whether it considered comments, the public record is incomplete and the OCC creates the perception that it makes final decisions on rules without considering the data, views, and arguments of others. The OCC carefully considers all comments received.

Comments continue to be invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: May 23, 2016.
Mary Hoyle Gottlieb,
Regulatory Specialist, Legislative and Regulatory Activities Division.

[FR Doc. 2016-12584 Filed 5-26-16; 8:45 am]

BILLING CODE 4810-33-P